DEPARTMENT OF TRANSPORTATION

Federal Aviation Administration

Reopening of Comment Period for Proposed Voluntary Agreement at Statue of Liberty National Monument and Governors Island National Monument

AGENCY: Federal Aviation Administration (FAA), Transportation.

ACTION: Notice; reopening of comment period.

SUMMARY: The FAA, in cooperation with the National Park Service (NPS), announces the reopening of the public comment period for an additional 30 days on the proposed voluntary agreement for Statue of Liberty National Monument and Governors Island National Monument. On October 21, 2022 the agencies announced a 30-day comment period ending November 21, 2022. Comments previously submitted need not be resubmitted.

DATES: The comment period for the notice published at 87 FR 64130 on October 21, 2022 is reopened. Comments must be received on or before 30 days from this notice.

ADDRESSES: Comments will be received on the NPS Planning, Environment and Public Comment System (PEPC) website. The PEPC website for the Parks is: https://parkplanning.nps.gov/NYHarborAirTours.

FOR FURTHER INFORMATION CONTACT: Sandra Fox, Special Programs Staff, Federal Aviation Administration, Western-Pacific Region Headquarters, 777 S. Aviation Boulevard, Suite 150, El Segundo, CA 90245, telephone: (424) 405-7016, email: Sandra.Y.Fox@faa.gov.

SUPPLEMENTARY INFORMATION: The FAA and NPS issued the proposed voluntary agreement for Statue of Liberty National Monument and Governors Island National Monument pursuant to the National Parks Air Tour Management Act of 2000 on October 21, 2022 and announced a 30-day comment period. A voluntary agreement manages commercial air tour operations over a national park by establishing conditions for the conduct of the commercial air tour operations that help protect park resources and visitor experience without compromising aviation safety or the air traffic control system. During the comment period, the agencies received requests to extend the public comment. As the previous comment period has closed, the agencies are now reopening comment for an additional 30 days.

Written comments on the proposed voluntary agreement can be submitted via PEPC. The voluntary agreement document is also available at the PEPC site link included in the ADDRESSES section above. Comments will not be accepted by fax, email, or any other way than those specified above. All written comments become part of the official record. Before including your address, phone number, email address, or other personal identifying information in your comment, you should be aware that your entire comment—including your personal identifying information—may be made publicly available at any time. While you can ask us in your comment to withhold your personal identifying information from public review, we cannot guarantee that we will be able to do so.

Issued in El Segundo, CA, on November 25, 2022.
Sandra Fox,
Special Programs Staff Western-Pacific Region.

[FR Doc. 2022-26111 Filed 11-30-22; 8:45 am]

BILLING CODE 4910-13-P